DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, 5 U.S.C. App 2, the United States Department of Agriculture announces a meeting of the National Agricultural Research, Extension, Education, and Economics Advisory Board (Advisory Board).

DATES: The meeting dates are March 7-9, 2006, Washington, DC.

ADDRESSES: You may submit comments by any of the following methods before or up to two weeks after the meeting: e-mail: jspurling@csrees.usda.gov; Fax: (202)720-6199; Mail/Hand-Delivery: National Agricultural Research, Extension, Education, and Economics Advisory Board Office, U.S. Department of Agriculture, Room 344-A, Jamie L. Whitten Building, 1400 Independence Avenue, SW., Washington, DC 20250-2255.

FOR FURTHER INFORMATION CONTACT: Jim Spurling, (Acting) Executive Director, National Agricultural Research, Extension, Education, and Economics Advisory Board; Telephone: (202) 720-8187.

SUPPLEMENTARY INFORMATION: The meeting will take place at the Economic Research Service (ERS) of USDA, 1800 M Street, NW., (3rd Floor), Washington, DC 20020. On Tuesday, March 7, 2006, at 1 p.m. the focus session will begin with introductory remarks provided by the Chair of the Advisory Board, Under Secretary for Research, Education, and Economics (REE), USDA, followed by remarks from officials and/or designated experts from the four agencies of USDA's Research, Education, and Economics. On Wednesday, March 8, 2006, the general focus session will begin at 8 a.m. to 5 p.m. with highlights on “Germ Plasma and Bio Energy”. On Thursday, March 9, 2006, the focus session will reconvene at 8 a.m. to hear recap highlights of the previous day's focus session, followed by overall Advisory Board discussions. The Advisory Board Meeting will adjourn by 12 Noon. All portions of the Advisory Board meeting are open to the public. An opportunity for public comment will be offered after the meeting wrap-up.

Written comments by attendees or other interested stakeholders will be welcomed for the public record before and up to two weeks following the Advisory Board meeting (by close of business Thursday, March 23, 2006). All statements will become a part of the official record of the Advisory Board and will be kept on file for public review in the Advisory Board Office.

Done at Washington, DC this 6th day of February, 2006.
Joseph J. Jen,
Under Secretary, Research, Education, and Economics.

[FR Doc. E6-1875 Filed 2-9-06; 8:45 am]

BILLING CODE 3410-22-P